DEPARTMENT OF TRANSPORTATION

Maritime Administration (MARAD)

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on April 12, 2000 [65 FR 19811]. Comments were due June 12, 2000. No comments were received.

DATES: Comments must be submitted on or before July 20, 2000.

FOR FURTHER INFORMATION CONTACT: Raymond R. Barberesi, Director Office of Sealift Support, MAR-630, Room 7307, Maritime Administration, 400 Seventh Street, SW, Washington, D.C. 20590, telephone number 202-366-2323 or fax 202-493-2180. Copies of this collection can be obtained from that office.

SUPPLEMENTARY INFORMATION:

Maritime Administration

Title of Collection: “Request for Transfer of Ownership, Registry, and Flag, or Charter, Lease, or Mortgage of U.S. Citizen Owned Documented Vessels”.

OMB Control Number: 2133-0006.

Type of Request: Approval of an existing information collection.

Affected Public: Respondents are vessel owners who have applied for foreign transfer of U.S.-flag vessels.

Form(s): MA-29, MA-29A, MA-29B (Note MA-29A is only used in cases of a National Emergency).

Abstract: In accordance with Section 9 of the Shipping Act, 1916, as amended, the Maritime Administration is required to approve the sale, transfer, charter, lease, or mortgage of U.S. documented vessels to non-citizens, or the transfer of such vessels to foreign registry and flag, or the transfer of foreign flag vessels by their owners as required by various contractual requirements. This information collection requires a vessel owner to submit an application for a prospective foreign transfer of a U.S.-flag vessel. This information will assist in the determination of whether the vessel proposed for transfer will initially require retention under the U.S.-flag statutory regulation. In such instances, the application is reviewed and cleared for approval by specialists within MARAD and the Department of Defense, U.S. TRANSCOM.

Annual Estimated Burden Hours: 200 hours.

ADDRESSES: Send comments to the Office of Information and Regulatory Affairs, Office of Management and Budget, 725-17th Street, NW, Washington, DC 20503, Attention MARAD Desk Officer.

Comments are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is best assured of having its full effect if OMB receives it within 30 days of publication.

Dated: June 14, 2000.
Edmund T. Sommer, Jr.,
Acting Secretary, Maritime Administration.

[FR Doc. 00-15448 Filed 6-19-00; 8:45 am]

BILLING CODE 4910-81-P